DEPARTMENT OF COMMERCE

National Oceanic and Atmospheric Administration

50 CFR Part 660

[Docket No. 150316270-5270-01]

RIN 0648-XE020

Fisheries Off West Coast States; Modifications of the West Coast Commercial Salmon Fisheries; Inseason Actions #7 Through #13

AGENCY: National Marine Fisheries Service (NMFS), National Oceanic and Atmospheric Administration (NOAA), Commerce.

ACTION: Modification of fishing seasons; request for comments.

SUMMARY: NMFS announces seven inseason actions in the ocean salmon fisheries. These inseason actions modified the commercial salmon fisheries in the area from the U.S./Canada border to the U.S./Mexico border.

DATES: The effective dates for the inseason actions are set out in this document under the heading Inseason Actions. Comments will be accepted through July 27, 2015.

ADDRESSES: You may submit comments, identified by NOAA-NMFS-2015-0001, by any one of the following methods:

• Electronic Submissions: Submit all electronic public comments via the Federal eRulemaking Portal. Go to www.regulations.gov/#!docketDetail;D=NOAA-NMFS-2015-0001, click the “Comment Now!” icon, complete the required fields, and enter or attach your comments.

• Mail: William W. Stelle, Jr., Regional Administrator, West Coast Region, NMFS, 7600 Sand Point Way NE., Seattle, WA 98115-6349.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Peggy Mundy at 206-526-4323.

SUPPLEMENTARY INFORMATION:

Background

In the 2015 annual management measures for ocean salmon fisheries (80 FR 25611, May 5, 2015), NMFS announced the commercial and recreational fisheries in the area from the U.S./Canada border to the U.S./Mexico border, beginning May 1, 2015, and 2016 salmon seasons opening earlier than May 1, 2016. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Pacific Fishery Management Council (Council) and the appropriate State Directors (50 CFR 660.409(b)—Flexible inseason management provisions). The state management agencies that participated in the consultations described in this document were: Oregon Department of Fish and Wildlife (ODFW) and Washington Department of Fish and Wildlife (WDFW).

Management of the salmon fisheries is generally divided into two geographic areas: North of Cape Falcon (U.S./Canada border to Cape Falcon, OR) and south of Cape Falcon (Cape Falcon, OR, to the U.S./Mexico border). The inseason actions reported in this document affect fisheries north and south of Cape Falcon. Within the south of Cape Falcon area, the Klamath Management Zone (KMZ) extends from Humbug Mountain, OR, to Humboldt South Jetty, CA, and is divided at the Oregon/California border into the Oregon KMZ to the north and California KMZ to the south. All times mentioned refer to Pacific daylight time.

Inseason Actions

Inseason Action #7

Description of action: Inseason action #7 reopened the commercial salmon fishery from Leadbetter Point, WA, to Cape Falcon, OR, on June 5, 2015; Friday through Tuesday, with a landing and possession limit of 40 Chinook salmon per vessel per open period. Inseason action #7 superseded inseason action #6 (80 FR 36725, June 26, 2015), which temporarily closed this fishery on May 29, 2015.

Effective dates: Inseason action #7 took effect on June 5, 2015, and remained in effect until superseded by inseason action #8 on June 19, 2015.

Reason and authorization for the action: After consideration of Chinook salmon landings to date and fishery effort, the Regional Administrator (RA) determined that sufficient quota remained to reopen this fishery with a 5-day open period and a landing and possession limit of 40 Chinook salmon per vessel per opening, to avoid exceeding the quota. This action was taken to allow access to available Chinook salmon quota, without exceeding the quota that was set preseason. Inseason action to modify quotas and/or fishing seasons is authorized by 50 CFR 660.409(b)(1)(i).

Consultation date and participants: Consultation on inseason action #7 occurred on June 4, 2015. Participants in this consultation were staff from NMFS, Council, WDFW, and ODFW.

Inseason Action #8

Description of action: Inseason action #8 adjusted the landing and possession limit in the commercial salmon fishery from Leadbetter Point, WA, to Cape Falcon, OR, from 40 Chinook salmon per vessel per open period (see inseason action #7) to 80 Chinook salmon per vessel per open period. Inseason action #8 superseded inseason action #7.

Effective dates: Inseason action #8 took effect on June 19, 2015, and remained in effect until superseded by inseason action #12 on June 26, 2015.

Reason and authorization for the action: The states provided information that poor weather conditions had restricted fishing opportunities in the affected area. After consideration of Chinook salmon landings to date and fishery effort, the RA determined that sufficient quota remained to increase the landing and possession limit to allow access to the remaining quota without exceeding the quota that was set preseason. Inseason action to modify quotas and/or fishing seasons is authorized by 50 CFR 660.409(b)(1)(i).

Consultation date and participants: Consultation on inseason action #8 occurred on June 18, 2015. Participants in this consultation were staff from NMFS, Council, WDFW, and ODFW.

Inseason Action #9

Description of action: Inseason action #9 extended retention of Pacific halibut caught incidental to commercial salmon fishing (U.S./Canada border to U.S./Mexico border) beyond the June 30, 2015 deadline announced preseason. Pacific halibut retention will continue without any changes to landing and possession requirements until further notice.

Effective dates: Inseason action #9 took effect on July 1, 2015, and remains in effect until superseded by inseason action.

Reason and authorization for the action: The International Pacific Halibut Commission (IPHC) establishes an annual allocation of Pacific halibut that can be retained when caught incidental to commercial salmon fishing by fishers who possess the necessary IPHC license. The annual ocean salmon management measures (80 FR 25611, May 5, 2015) authorized halibut retention only during April, May, and June of the 2015 troll seasons and after June 30 in 2015 if quota remains. The RA considered Pacific halibut and Chinook salmon landings to date, and fishery effort, and determined that sufficient halibut allocation remained to allow retention to continue for the foreseeable future.

Consultation date and participants: Consultation on inseason action #9 occurred on June 25, 2015. Participants in this consultation were staff from NMFS, Council, WDFW, and ODFW.

Inseason Action #10

Description of action: Inseason action #10 modified the commercial salmon fishery from the U.S./Canada border to Cape Alava, WA. Inseason action #10 set a 2-day opening for this fishery, June 26-27, 2015, with a landing and possession limit of 12 Chinook salmon per vessel for the opening. This superseded the 5-day opening and 20 Chinook landing and possession limit established by inseason action #4 (80 FR 36725, June 26, 2015).

Effective dates: Inseason action #10 took effect on June 26, 2015, and remained in effect through the end of the spring salmon season, June 30, 2015.

Reason and authorization for the action: After consideration of Chinook salmon landings to date and fishery effort, the RA determined that insufficient quota remained to continue this fishery under the schedule and landing limits set by inseason action #4. Therefore, the fishery was restricted to a 2-day opening with a reduced landing and possession limit. This action was taken to allow access to available Chinook salmon quota, without exceeding the quota that was set preseason. Inseason action to modify quotas and/or fishing seasons is authorized by 50 CFR 660.409(b)(1)(i).

Consultation date and participants: Consultation on inseason action #10 occurred on June 25, 2015. Participants in this consultation were staff from NMFS, Council, WDFW, and ODFW.

Inseason Action #11

Description of action: Inseason action #11 closed the commercial salmon fishery from Queets River to Leadbetter point at 11:59 p.m., June 25, 2015.

Effective dates: Inseason action #11 took effect on June 25, 2015, and remained in effect through the end of the spring salmon season, June 30, 2015.

Reason and authorization for the action: After consideration of Chinook salmon landings to date and fishery effort, the RA determined that insufficient quota remained to continue this fishery under the schedule set preseason and that the fishery was likely to exceed the quota if allowed to remain open. This action was taken to avoid exceeding the quota that was set preseason. Inseason action to modify quotas and/or fishing seasons is authorized by 50 CFR 660.409(b)(1)(i).

Consultation date and participants: Consultation on inseason action #11 occurred on June 25, 2015. Participants in this consultation were staff from NMFS, Council, WDFW, and ODFW.

Inseason Action #12

Description of action: Inseason action #12 closed the commercial salmon fishery from Leadbetter Point, WA, to Cape Falcon, OR, by cancelling the 5-day opening scheduled to begin Friday, June 26, 2015, superseding inseason action #8.

Effective dates: Inseason action #12 took effect on June 26, 2015, and remained in effect through the end of the spring salmon season, June 30, 2015.

Reason and authorization for the action: After consideration of Chinook salmon landings to date and fishery effort, the RA determined that insufficient quota remained to continue this fishery under the schedule and landing limits set by inseason action #8 and cancelled the opening that was scheduled to begin June 26, 2015. This action was taken to avoid exceeding the quota that was set preseason. Inseason action to modify quotas and/or fishing seasons is authorized by 50 CFR 660.409(b)(1)(i).

Consultation date and participants: Consultation on inseason action #12 occurred on June 25, 2015. Participants in this consultation were staff from NMFS, Council, WDFW, and ODFW.

Inseason Action #13

Description of action: Inseason action #13 modified the commercial salmon fishery from Humbug Mountain, OR, to the OR/CA border (Oregon KMZ) in June and July. Inseason action #13 closed the fishery at 11:59 p.m., June 26, 2015; reopened the fishery July 1-2, 2015 with a landing and possession limit of 15 Chinook salmon per vessel per day; closed the fishery July 3-4, 2015; and reopened the fishery daily, beginning July 5, 2015 with a landing and possession limit of 25 Chinook salmon per vessel per day.

Effective dates: Inseason action #13 took effect on June 26, 2015, and remains in effect until superseded by inseason action or the end of the July fishery, on July 31, 2015.

Reason and authorization for the action: The commercial salmon fishery in the Oregon KMZ operates under monthly quotas for Chinook salmon in June, July, and August. After consideration of Chinook salmon landings to date and fishery effort, the RA determined that insufficient quota remained to continue fishing in June and that modifying the July opening would allow access to available Chinook salmon quota, without exceeding the quota that was set preseason. Inseason action to modify quotas and/or fishing seasons is authorized by 50 CFR 660.409(b)(1)(i).

Consultation date and participants: Consultation on inseason action #13 occurred on June 25, 2015. Participants in this consultation were staff from NMFS, Council, WDFW, and ODFW.

All other restrictions and regulations remain in effect as announced for the 2015 ocean salmon fisheries and 2016 fisheries opening prior to May 1, 2016 (80 FR 25611, May 5, 2015).

The RA determined that the best available information indicated that Chinook salmon and Pacific halibut catch to date and fishery effort supported the above inseason actions recommended by the states of Washington and Oregon. The states manage the fisheries in state waters adjacent to the areas of the U.S. exclusive economic zone in accordance with these Federal actions. As provided by the inseason notice procedures of 50 CFR 660.411, actual notice of the described regulatory actions was given, prior to the time the action was effective, by telephone hotline numbers 206-526-6667 and 800-662-9825, and by U.S. Coast Guard Notice to Mariners broadcasts on Channel 16 VHF-FM and 2182 kHz.

Classification

The Assistant Administrator for Fisheries, NOAA (AA), finds that good cause exists for this notification to be issued without affording prior notice and opportunity for public comment under 5 U.S.C. 553(b)(B) because such notification would be impracticable. As previously noted, actual notice of the regulatory actions was provided to fishers through telephone hotline and radio notification. These actions comply with the requirements of the annual management measures for ocean salmon fisheries (80 FR 25611, May 5, 2015), the West Coast Salmon Fishery Management Plan (Salmon FMP), and regulations implementing the Salmon FMP, 50 CFR 660.409 and 660.411. Prior notice and opportunity for public comment was impracticable because NMFS and the state agencies had insufficient time to provide for prior notice and the opportunity for public comment between the time Chinook salmon catch and effort assessments and projections were developed and fisheries impacts were calculated, and the time the fishery modifications had to be implemented in order to ensure that fisheries are managed based on the best available scientific information, ensuring that conservation objectives and ESA consultation standards are not exceeded. The AA also finds good cause to waive the 30-day delay in effectiveness required under 5 U.S.C. 553(d)(3), as a delay in effectiveness of these actions would allow fishing at levels inconsistent with the goals of the Salmon FMP and the current management measures.

These actions are authorized by 50 CFR 660.409 and 660.411 and are exempt from review under Executive Order 12866.

Authority: 16 U.S.C. 1801 et seq.

Dated: July 6, 2015.
Emily H. Menashes,
Acting Director, Office of Sustainable Fisheries, National Marine Fisheries Service.

[FR Doc. 2015-16829 Filed 7-9-15; 8:45 am]

BILLING CODE 3510-22-P